NATIONAL SCIENCE FOUNDATION

Advisory Committee for Education and Human Resources; Notice of Meeting

In accordance with the Federal Advisory Committee Act (Pub. L. 92-463, as amended), the National Science Foundation announces the following meeting:

Name: Advisory Committee for Education and Human Resources (#1119).

Date/Time: November 2, 2011; 8:30 a.m. to 5 p.m.; November 3, 2011; 8:30 a.m. to 1 pm.

Place: NSF Headquarters, Room 375, 4201 Wilson Boulevard, Arlington VA 22230.

Type of Meeting: Open.

Contact Person: Amanda Edelman, National Science Foundation, 4201 Wilson Boulevard, Arlington, VA 22230, (703) 292-8600, aedelman@nsf.gov.

Purpose of Meeting: To provide advice with respect to the Foundation's science, technology, engineering, and mathematics (STEM) education and human resources programming.

Agenda

November 2, 2011 (Wednesday Morning)

Remarks by the Committee Chair and NSF Assistant Director for Education and Human Resources (EHR)

• Brief review of NSF strategic plan

• Acceptance and review of Committee of Visitor Reports

○ Robert Noyce Teacher Scholarships

○ Integrative Graduate Education and Research Traineeship Program

○ Graduate STEM Fellows in K-12 Education

○ Informal Science Education

○ Innovative Technology Experiences for Students and Teachers

○ ADVANCE: Increasing the Participation and Advancement of Women in Academic Science and Engineering Careers

• Committee discussion of EHR collaborations with research directorates and offices.

Working Lunch

November 2, 2011 (Wednesday Afternoon)

• Continued Committee discussion of collaborations with research directorates and offices.

• Discussion of NSF interactions with external stakeholders

November 3, 2011 (Thursday Morning)

• Joint session with the NSF Advisory Committee for Mathematical and Physical Sciences.

• Committee visit with NSF Director Suresh and NSF Deputy Director Marrett.

Adjournment

Dated: October 6, 2011.
Susanne Bolton,
Committee Management Officer.

[FR Doc. 2011-26350 Filed 10-12-11; 8:45 am]

BILLING CODE 7555-01-P